DEPARTMENT OF COMMERCE

Foreign-Trade Zones Board

(Docket 60-2005)

Foreign-Trade Zone 185 -- Culpepper County, Virginia, Expansion of Facilities -- Subzone 185C, Merck & Company, Inc., (Pharmaceutical Products), Elkton, Virginia

An application has been submitted to the Foreign-Trade Zones Board (the Board) by the Culpepper County Chamber of Commerce, grantee of FTZ 185, requesting to expand the subzone (Subzone 185C) at the Merck & Company Inc. (Merck), facility in Elkton, Virginia. The application was submitted pursuant to the Foreign-Trade Zones Act, as amended (19 U.S.C. 81a-81u), and the regulations of the Board. It was formally filed on December 7, 2005.

Subzone 185C was approved by the Board on November 14, 1994 at a single site (82 bldgs./624,221 sq. ft. on 1,333 acres) located on Route 340S, in Elkton (Rockingham County), Virginia, with authority granted for the manufacture of finished pharmaceuticals (Board Order 710, 59 FR 60603, 11/25/94), and expanded on 04/05/01 (Board Order 1156, 66 FR 19919, 04/18/01). Merck is now proposing to expand production capacity under FTZ procedures by adding acreage and 2 additional buildings totaling 137,047 sq. ft. The expanded subzone would then include 99 buildings consisting of 1,903,718 sq. ft. on 1,433 acres.

In accordance with the Board's regulations, a member of the FTZ staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW, Washington, DC 20005; or,

2. Submissions via the U.S. Postal Service: Foreign-Trade Zones Board, U.S. Department of Commerce, FCB-Suite 4100W, 1401 Constitution Avenue, NW, Washington, DC 20230.

The closing period for their receipt is February 13, 2006. Rebuttal comments in response to material submitted during the foregoing period may be submitted during the subsequent 15-day period (to February 28, 2006).

A copy of the application and accompanying exhibits will be available during this time for public inspection at address Number 1 listed above, and at the Culpepper County Chamber of Commerce, 133 West Davis Drive, Culpepper, Virginia 22701.

Dated: December 8, 2005.
Dennis Puccinelli,
Executive Secretary.

[FR Doc. 05-24085 Filed 12-14-05; 8:45 am]

BILLING CODE 3510-DS-S